DEPARTMENT OF ENERGY

Federal Energy Regulatory Commission

[Project No. 11132-030]

KEI (Maine) Power Management (I), LLC; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 11132-030.

c. Date Filed: November 27, 2024.

d. Applicant: KEI (Maine) Power Management (I), LLC (KEI Power).

e. Name of Project: Eustis Hydroelectric Project.

f. Location: On the North Branch of the Dead River, in the town of Eustis, in Franklin County, Maine.

g. Filed Pursuant to: Federal Power Act 16 U.S.C. 791(a)-825(r).

h. Applicant Contact: Mr. Lewis C. Loon, 423 Brunswick Ave., Gardiner, ME 04345; (207) 203-3027; lewis.loon@kruger.com.

i. FERC Contact: Erin Kimsey at (202) 502-8621; or email at erin.kimsey@ferc.gov.

j. Cooperating Agencies: Federal, State, local, and Tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 26, 2025.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC20426. Submissions sent via any other carrier must be addressed to: Debbie-Anne A. Reese, Secretary, Federal Energy Regulatory Commission, 12225 Wilkins Avenue, Rockville, MD 20852. All filings must clearly identify the project name and docket number on the first page: Eustis Hydroelectric Project (P-11132-030).

m. The application is not ready for environmental analysis at this time.

n. The existing Eustis Hydroelectric Project consists of the following: (1) a 472-foot-long dam that includes: (i) a 22-foot-long concrete wall, east abutment section; (ii) two 10-foot-wide Taintor gates; (ii) a 20-foot-wide concrete sluiceway; (iv) four 3-foot-wide concrete piers; (ii) a 183-foot-long concrete ogee spillway section with 2- to 4-foot-high flashboards with a crest elevation of 1,161 National Geodetic Vertical Datum of 1929 (NGVD 29) at top of the flashboards; (vi) a 14-foot-long intake section with an intake structure equipped with a trashrack with 1-inch clear bar spacing; and (vii) a 200-foot-long earthen dike, west abutment section; (2) a 130-foot-long earthen saddle dike located about 150 feet upstream of the west abutment section of the dam; (3) an impoundment with a surface area of 73.5 acres at an elevation of 1,161 feet NGVD 29; (4) an 18-foot-long, 18-foot-wide concrete and masonry powerhouse with a single turbine-generator unit with an authorized installed capacity of 250 kilowatts; (5) a 100-kilovolt-amperes step-up transformer; (6) a 100-foot-long, 12.5-kilovolt transmission line; and (7) appurtenant facilities.

The current license requires KEI Power to operate the project in a run-of-river mode, wherein discharge flow is equal to inflow, for the protection of water quality and aquatic resources in the North Branch of the Dead River. The project has an average annual general of 728 megawatt-hours. The current license also requires KEI Power to maintain year-round stable impoundment levels within 1-foot of full pond elevation of 1,161 NGVD.

The current license requires the implementation of a May 13, 1999 recreation plan that includes: (1) four parking spaces at the powerhouse; (2) three parking spaces near the abandoned mill foundation south of the powerhouse; (3) a canoe portage around the west side of Eustis dam; and (4) signs at the powerhouse and at locations visible to boaters upstream of the dam.

KEI Power is not proposing any changes to project facilities or operation.

o. Copies of the application may be viewed on the Commission's website at https://www.ferc.gov using the “eLibrary” link. Enter the docket number excluding the last three digits in the docket number field to access the document (P-11132). For assistance, contact FERC Online Support at FERCOnlineSupport@ferc.gov or call tollfree, (866) 208-3676 or (202) 502-8659 (TTY).

You may also register online at https://ferconline.ferc.gov/FERCOnline.aspx to be notified via email of new filings and issuances related to this or other pending projects. For assistance, contact FERC Online Support.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

q. Procedural schedule and final amendments: The application will be processed according to the following preliminary schedule. Revisions to the schedule will be made as appropriate.

Milestone | Target date
Issue Deficiency Letter (if necessary) | January 2025.
Request Additional Information | January 2025.
Issue Scoping Document 1 for comments | April 2025.
Issue Acceptance Letter | May 2025.
Request Additional Information (if necessary) | May 2025.
Issue Scoping Document 2 (if necessary) | June 2025.

Final amendments to the application must be filed with the Commission no later than 30 days from the issuance date of the notice of ready for environmental analysis.

Dated: December 6, 2024.
Carlos D. Clay,
Acting Deputy Secretary.

[FR Doc. 2024-29285 Filed 12-11-24; 8:45 am]

BILLING CODE 6717-01-P